DEPARTMENT OF LABOR

Mine Safety and Health Administration

30 CFR Part 75

RIN 1219-AB52

Sealing of Abandoned Areas

AGENCY: Mine Safety and Health Administration, Labor.

ACTION: Extension of comment period.

SUMMARY: The Mine Safety and Health Administration (MSHA) is extending the comment period for the Emergency Temporary Standard (ETS) on sealing of abandoned areas of underground coal mines published on May 22, 2007 (72 FR 28796).

DATES: The comment period will close on August 17, 2007.

ADDRESSES: Comments must be clearly identified and may be submitted by any of the following methods:

(1) Federal Rulemaking Portal: http://www.regulations.gov. Follow the instructions for submitting comments.

(2) Electronic mail: zzMSHA-Comments@dol.gov. Include “RIN 1219-AB52” in the subject line of the message.

(3) Telefax: (202) 693-9441. Include “RIN 1219-AB52” in the subject.

(4) Regular Mail: MSHA, Office of Standards, Regulations, and Variances, 1100 Wilson Blvd., Room 2350, Arlington, Virginia 22209-3939.

(5) Hand Delivery or Courier: MSHA, Office of Standards, Regulations, and Variances, 1100 Wilson Blvd., Room 2350, Arlington, Virginia 22209-3939. Sign in at the receptionist's desk on the 21st floor.

(6) Docket: Comments can be accessed electronically at http://www.msha.gov under the “Rules and Regs” link. MSHA will post all comments on the Internet without change, including any personal information provided. Comments may also be reviewed at the Office of Standards, Regulations, and Variances, 1100 Wilson Blvd., Room 2350, Arlington, Virginia. Sign in at the receptionist's desk on the 21st floor.

MSHA maintains a listserve that enables subscribers to receive e-mail notification when rulemaking documents are published in the Federal Register. To subscribe to the listserve, go to http://www.msha.gov/subscriptions/subscribe.aspx.

FOR FURTHER INFORMATION CONTACT: Patricia W. Silvey, Director, Office of Standards, Regulations, and Variances, MSHA, 1100 Wilson Boulevard, Room 2350, Arlington, Virginia 22209-3939. Ms. Silvey can be reached at Silvey.Patricia@dol.gov (Internet E-mail), (202) 693-9440 (voice), or (202) 693-9441 (facsimile). This notice is available on the Internet at http://www.msha.gov/REGSINFO.HTM.

SUPPLEMENTARY INFORMATION: MSHA issued an ETS on May 22, 2007, which included hearing dates and a deadline for receiving comments. The comment period was scheduled to close on July 6, 2007, forty-five days from the date of publication, and the last hearing date was scheduled on July 19, 2007. MSHA believes this action allows commenters sufficient time to prepare comments including post-hearing comments. MSHA will accept written comments and other appropriate data for the record from any interested party up to the close of the comment period on August 17, 2007.

Dated: June 18, 2007.
Richard E. Stickler,
Assistant Secretary for Mine Safety and Health.

[FR Doc. E7-12242 Filed 6-22-07; 8:45 am]

BILLING CODE 4510-43-P